DEPARTMENT OF HEALTH AND HUMAN SERVICES

National Institutes of Health

Proposed Collection; 30 Day Comment Request Application Process for Clinical Research Training and Medical Education at the Clinical Center and Its Impact on Course and Training Program Enrollment and Effectiveness

AGENCY: National Institutes of Health, HHS.

ACTION: Notice.

SUMMARY: In compliance with the requirement of the Paperwork Reduction Act of 1995, for opportunity for public comment on proposed data collection projects, the Clinical Center, the National Institutes of Health (NIH) will publish periodic summaries of proposed projects to be submitted to the Office of Management and Budget (OMB) for review and approval.

DATES: Comments regarding this information collection are best assured of having their full effect if received within 30 days of the date of this publication.

FOR FURTHER INFORMATION CONTACT: To obtain a copy of the data collection plans and instruments, contact: Tom Burklow, MD, Office of Clinical Research Training and Medical Education, NIH Clinical Center, National Institutes of Health, 10 Center Drive, Room 1N262, Bethesda, MD 20892-1158, or call non-toll-free number 301-435-8015, or Email your request, including your address to: tom.burklow@nih.gov. Formal requests for additional plans and instruments must be requested in writing.

SUPPLEMENTARY INFORMATION: This proposed information collection was previously published in the Federal Register on March 30, 2023, page 19158 (88 FR 19158) and allowed 60 days for public comment. No comments were received. The purpose of this notice is to allow an additional 30 days for public comment. The Clinical Center, National Institutes of Health, may not conduct or sponsor, and the respondent is not required to respond to, an information collection that has been extended, revised, or implemented on or after October 1, 1995, unless it displays a currently valid OMB control number. In compliance with section 3507(a)(1)(D) of the Paperwork Reduction Act of 1995, the National Institutes of Health (NIH) has submitted to the Office of Management and Budget (OMB) a request for review and approval of the information collection listed below.

Proposed Collection Title: Application Process for Clinical Research Training and Medical Education at the NIH Clinical Center, Revision OMB #0925-0698, Expiration date August 31, 2023, National Institutes of Health Clinical Center (CC), National Institutes of Health (NIH).

Need and Use of Information Collection: The primary objective of the application process is to allow the Office of Clinical Research Training and Medical Education (OCRTME) at the NIH Clinical Center to evaluate applicants' qualifications to determine applicants' eligibility for training programs managed by the Office. Applicants must provide the required information requested in the respective applications to be considered a candidate for participation. Information submitted by candidates for training programs is reviewed initially by OCRTME administrative staff to establish eligibility for participation. Eligible candidates are then referred to the designated training program director/administrator or training program selection committee for review and decisions regarding acceptance for participation. Upon acceptance, OCRTME will collect required eligibility documents for respective training programs. A secondary objective of the application process is to track enrollment in training programs over time.

OMB approval is requested for 3 years. There are no costs to respondents other than their time. The total estimated annualized burden hours 633.

Estimated Annualized Burden Hours
Form name | Type of respondents | Number of respondents | Number of responses per respondent | Average burden per response (in hours) | Total annual burden hours
Clinical Electives Program | Pre Doctoral Students | 300 | 1 | 20/60 | 100
Graduate Medical Education | Physicians | 100 | 1 | 20/60 | 33
Medical Research Scholars Program | Pre Doctoral Students | 200 | 1 | 20/60 | 67
Resident Electives Program | Physicians | 100 | 1 | 20/60 | 33
Bioethics Fellowship Program | Pre Doctoral, Post-Doctoral | 300 | 1 | 20/60 | 100
OCRTME Onboarding Application | Pre Doctoral Students | 300 | 1 | 20/60 | 100
Total |  | 1,300 |  |  | 433

Frederick D. Vorck, Jr.,
Project Clearance Liaison, NIH Clinical Center, National Institutes of Health.

[FR Doc. 2023-18384 Filed 8-24-23; 8:45 am]

BILLING CODE 4140-01-P